NATIONAL AERONAUTICS AND SPACE ADMINISTRATION

[Notice: (07-007)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Public Law 104-13, 44 U.S.C. 3506(c)(2)(A)).

DATES: All comments should be submitted within 60 calendar days from the date of this publication.

ADDRESSES: All comments should be addressed to Mr. Walter Kit, National Aeronautics and Space Administration, Washington, DC 20546-0001.

FOR FURTHER INFORMATION CONTACT: Requests for additional information or copies of the information collection instrument(s) and instructions should be directed to Mr. Walter Kit, NASA PRA Officer, NASA Headquarters, 300 E Street SW., JE000, Washington, DC 20546, (202) 358-1350, Walter.Kit-1@nasa.gov.

SUPPLEMENTARY INFORMATION:

I. Abstract

In 2005, NASA TV switched from transmitting an analog TV signal to a Digital signal that requires viewers to buy a digital receiver. NASA needs to determine how this switch affects viewers, how viewers use NASA TV, and what changes they request. Responses will be used to recommend improvements to NASA TV.

II. Method of Collection

Respondents will complete an online survey. All study data will be collected online using Web-based database technologies.

III. Data

Title: NASA TV Viewers Survey.

OMB Number: 2700-XXXX.

Type of review: Emergency new collection.

Affected Public: Individuals or households; Not-for-profit institutions.

Number of Respondents: 1020.

Responses Per Respondent: 1.

Annual Responses: 1020.

Hours Per Response: 0.17 hours.

Annual Burden Hours: 170.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Gary Cox,
Deputy Chief Information Officer (Acting).

[FR Doc. E7-2204 Filed 2-8-07; 8:45 am]

BILLING CODE 7510-13-P